CONSUMER PRODUCT SAFETY COMMISSION

[Docket No. CPSC-2012-0024]

Agency Information Collection Activities; Proposed Collection; Comment Request; Notification Requirements for Coal and Woodburning Appliances

AGENCY: Consumer Product Safety Commission.

ACTION: Notice.

SUMMARY: The information collection requirements in a Consumer Product Safety Commission (“CPSC” or “Commission”) coal and woodburning appliance rule have been approved by the Office of Management and Budget (“OMB”) under OMB control number 3041-0040. As required by the Paperwork Reduction Act of 1995 (44 U.S.C. Chapter 35), the Commission now requests comments on a proposed extension of approval of those information collection requirements for a period of three years from the date of approval by the OMB.

The rule, codified at 16 CFR part 1406, requires manufacturers and importers of certain coal and woodburning appliances to provide safety information to consumers on labels and instructions and an explanation of how certain clearance distances in those labels and instructions were determined. The requirements to provide copies of labels and instructions to the Commission have been in effect for stoves manufactured or imported since October 17, 1983, or May 16, 1984, for stoves introduced into United States commerce after May 16, 1984, regardless of the date of manufacture. For this reason, the information burden imposed by this rule is limited to manufacturers and importers introducing new products or models, or making changes to labels, instructions, or information previously provided to the Commission. The purposes of the reporting requirements in part 1406 are to reduce the risk of injuries from fires associated with the installation, operation, and maintenance of the appliances that are subject to the rule, and to assist the Commission in determining the extent to which manufacturers and importers comply with the requirements in part 1406. The Commission will consider all comments received in response to this notice before requesting approval of this collection of information from the OMB.

DATES: Written comments must be received by the Office of the Secretary not later than July 2, 2012.

ADDRESSES: You may submit comments, identified by Docket No. CPSC-2012-0024, by any of the following methods:

Submit electronic comments in the following way:

Federal eRulemaking Portal: http://www.regulations.gov. Follow the instructions for submitting comments. To ensure timely processing of comments, the Commission is no longer accepting comments submitted by electronic mail (email) except through www.regulations.gov.

Submit written submissions in the following way:

Mail/Hand delivery/Courier (for paper, disk, or CD-ROM submissions), preferably in five copies, to: Office of the Secretary, Consumer Product Safety Commission, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For information about the proposed collection of information call or write Mary James, Office of Information Technology and Technology Services, Consumer Product Safety Commission, 4330 East West Highway, Bethesda, MD 20814; telephone: (301) 504-7213 or by email to mjames@cpsc.gov.

SUPPLEMENTARY INFORMATION:

A. Estimated Burden

CPSC staff estimates that existing manufacturers who are subject to the information collection requirements may introduce up to 15 new models in a 3-year period, or approximately five new models per year. No new manufacturers are expected to begin marketing in the United States. CPSC staff estimates that the average number of hours per respondent is three hours per year, for a total of about 15 hours of annual burden for all respondents (5 models x 3 hours). No specific label design is required, but examples of acceptable label formats are provided in the rule. It is assumed that each manufacturer will use the same general label format for all stove models it produces. Therefore, when a manufacturer introduces a new stove model, the only changes that will be required are to insert the specific information that pertains to the new model. Additionally, manufacturers are to provide the Commission with copies of the information required to be disclosed on the label. Because this information should be readily available, it should take a manufacturer 30 minutes or less per model to collect the information and mail it to the Commission. Therefore, an additional 2.5 hours have been added to the total burden (30 minutes × 5 models per year) for a total annual burden of 17.5 hours. The total estimated annualized respondent cost is approximately $1,044, based on an average total hourly employee compensation rate of $59.63 for management, professional, and related occupations (17.5 hours × $59.63) (Bureau of Labor Statistics, September 2011).

B. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Dated: April 30, 2012.
Todd A. Stevenson,
Secretary, Consumer Product Safety Commission.

[FR Doc. 2012-10660 Filed 5-2-12; 8:45 am]

BILLING CODE 6355-01-P